NUCLEAR REGULATORY COMMISSION

[Docket No. 50-312]

Sacramento Municipal Utility District; Rancho Seco Nuclear Generating Station; Exemption

1.0 Background

The Sacramento Municipal Utility District (the licensee) is the holder of Facility Operating License No. DPR-54, which authorizes possession of the Rancho Seco Nuclear Generating Station (Rancho Seco). The license provides, among other things, that the facility is subject to all rules, regulations, and orders of the U.S. Nuclear Regulatory Commission (NRC, the Commission) now or hereafter in effect.

The facility consists of a pressurized water reactor located in Sacramento County in California. The facility is permanently shut down and defueled and the licensee is no longer authorized to operate or place fuel in the reactor.

2.0 Request/Action

Section 50.54(p) of Title 10 of the Code of Federal Regulations states that “The licensee shall prepare and maintain safeguards contingency plan procedures in accordance with Appendix C of part 73 of this chapter for effecting the actions and decisions contained in the Responsibility Matrix of the Safeguards Contingency Plan.”

Part 73 of Title 10 of the Code of Federal Regulations, “Physical Protection of Plant and Materials,” states that “This part prescribes requirements for the establishment and maintenance of a physical protection system which will have capabilities for the protection of special nuclear material at fixed sites and in transit and of plants in which special nuclear material is used.” Section 73.55 of Title 10 of the Code of Federal Regulations, “Requirements for physical protection of licensed activities in nuclear power reactors against radiological sabotage,” states that “The licensee shall establish and maintain an onsite physical protection system and security organization which will have as its objective to provide high assurance that activities involving special nuclear material are not inimical to the common defense and security and do not constitute an unreasonable risk to the public health and safety.”

On March 17, 1992, the NRC amended the Rancho Seco operating license to Possession-Only status. On March 20, 1995, the NRC issued the Rancho Seco Decommissioning Order. The Order authorized Rancho Seco decommissioning and accepted the Rancho Seco decommissioning funding plan. By letter dated February 20, 2001, the licensee requested exemptions from the security requirements of 10 CFR 50.54(p) and 10 CFR part 73. Sections 50.54(p) and 73.55 provide security requirements to protect the spent fuel while within the boundary of a licensed power reactor site. The requested exemptions from the security requirements for the Rancho Seco Nuclear Generating Staion would be effective after the spent fuel has been removed from the reactor site by the licensee and relocated to the new independent spent fuel storage installation (ISFSI), which is not physically associated with the reactor site. The new ISFSI has been licensed under 10 CFR part 72 for storage facilities not associated with a reactor site and possesses an approved physical security plan, as required by 10 CFR 72.180 and 10 CFR 73.51. The licensee completed the transfer of the spent nuclear fuel from the spent fuel pool to the ISFSI on August 21, 2002.

Subpart H of 10 CFR part 72 establishes requirements for physical protection for the independent storage of spent nuclear fuel and high-level radioactive waste and refers to 10 CFR 73.51 to define the requirements for physical protection of spent nuclear fuel stored under a specific license issued pursuant to 10 CFR part 72. The Rancho Seco ISFSI has an NRC-approved security plan to protect the spent nuclear fuel stored there from radiological sabotage and diversion, as required by 10 CFR part 72, subpart H.

In summary, by letter dated February 20, 2001, the licensee requested exemptions from the security requirements of 10 CFR 50.54(p) and 10 CFR part 73 to eliminate the security requirements at the 10 CFR part 50 licensed site once all the spent nuclear fuel had been moved to the 10 CFR part 72 licensed ISFSI.

3.0 Discussion

Pursuant to 10 CFR 50.12, the Commission may, upon application by any interested person or upon its own initiative, grant exemptions from the requirements of 10 CFR part 50, when (1) the exemptions are authorized by law, will not present an undue risk to public health or safety, and are consistent with the common defense and security; and (2) when special circumstances are present. Special circumstances are present when application of the regulation in the particular circumstances would not serve the underlying purpose of the rule and when compliance would result in costs significantly in excess of those incurred by others similarly situated. Also, pursuant to 10 CFR 73.5, “Specific exemptions,” the Commission may grant exemptions from the regulations in this part as it determines are authorized by law and will not endanger life or property, and are otherwise in the public interest.

With the completion of the spent fuel movement into the ISFSI on August 21, 2002, there is no longer any special nuclear material located within the 10 CFR part 50 licensed site. At this time, the potential for radiological sabotage or diversion of special nuclear material at the 10 CFR part 50 licensed site would be eliminated. The security requirements of 10 CFR part 73, as applicable to a 10 CFR part 50 licensed site, presume that the purpose of the facility is to possess and utilize special nuclear material. Therefore, the continued application of the 10 CFR part 73 requirements to the Rancho Seco facility would no longer be necessary to achieve the underlying purpose of the rule. Additionally, with the transfer of the spent nuclear fuel to the ISFSI, the 10 CFR part 50 licensed site would be comparable to a source and byproduct licensee in terms of the level of security needed to protect the public health and safety. The continued application of 10 CFR part 73 security requirements would cause the licensee to expend significantly more funds for security requirements than other source and byproduct facilities. Therefore, compliance with 10 CFR part 73 would result in costs significantly in excess of those incurred by others similarly situated. Based on the above, the NRC has determined that the removal of all special nuclear material from the 10 CFR part 50 licensed site constitutes special circumstances. The security of the special nuclear material will be maintained following relocation of the spent nuclear fuel to the 10 CFR part 72 licensed ISFSI since new assurance objectives and general performance requirements will be in place to protect the spent fuel by the security requirements in 10 CFR part 72. Therefore, protection of the special nuclear material will continue following relocation of the spent nuclear fuel from the 10 CFR part 50 licensed site.

4.0 Conclusion

Accordingly, the Commission has determined that, pursuant to 10 CFR 50.12(a), an exemption is authorized by law, will not endanger life or property or the common defense and security, and is otherwise in the public interest based on the continued maintenance of appropriate security requirements for the special nuclear material. Additionally, special circumstances are present based on the relocation of the spent nuclear fuel from the 10 CFR part 50 licensed site to the 10 CFR part 72 site. Therefore, the Commission hereby grants Sacramento Municipal Utility District an exemption from the requirements of 10 CFR 50.54(p) at the Rancho Seco Nuclear Generating Station.

Accordingly, the Commission has determined that, pursuant to 10 CFR 73.5, an exemption is authorized by law, will not endanger life or property or the common defense and security, and is otherwise in the public interest based on the maintenance of appropriate security requirements for the special nuclear material under the 10 CFR part 72 license. Therefore, the Commission hereby grants Sacramento Municipal Utility District an exemption from the physical protection requirements of 10 CFR part 73 at the Rancho Seco Nuclear Generating Station.

Pursuant to 10 CFR 51.32, “Finding of no significant impact,” the Commission has previously determined that the granting of this exemption will not have a significant effect on the quality of the human environment (66 FR 36017, July 10, 2001).

These exemptions are effective immediately.

Dated in Rockville, Maryland, this 8th day of October, 2002.
For the Nuclear Regulatory Commission.
John A. Zwolinski,
Director, Division of Licensing Project Management, Office of Nuclear Reactor Regulation.

[FR Doc. 02-26168 Filed 10-11-02; 8:45 am]

BILLING CODE 7590-01-P